DEPARTMENT OF ENERGY

Federal Energy Regulatory Commission

[Project No. 13563-003—Alaska]

Juneau Hydropower, Inc.; Notice of Availability of the Draft Environmental Impact Statement for the Sweetheart Lake Hydroelectric Project and Intention To Hold Public Meetings

In accordance with the National Environmental Policy Act of 1969 and the Federal Energy Regulatory Commission (Commission or FERC) regulations contained in the Code of Federal Regulations (CFR) (18 CFR part 380 [FERC Order No. 486, 52 FR 47897]), the Office of Energy Projects has reviewed the application for an original license for the Sweetheart Lake Hydroelectric Project (FERC No. 13563) and prepared a draft environmental impact statement (EIS) for the project.

The proposed project would be located on Sweetheart Lake and Sweetheart Creek in the City and Borough of Juneau, Alaska. The proposed project, if licensed, would occupy 2,058.24 acres of federal lands within the Tongass National Forest, administered by the U.S. Department of Agriculture, Forest Service.

The draft EIS contains staff's analysis of the applicant's proposal and the alternatives for licensing the Sweetheart Lake Hydroelectric Project. The draft EIS documents the views of governmental agencies, non-governmental organizations, affected Indian tribes, the public, the license applicant, and Commission staff.

A copy of the draft EIS is available for review at the Commission or may be viewed on the Commission's Web site at http://www.ferc.gov, using the “e-Library” link. Enter the docket number, excluding the last three digits, to access the document. For assistance, contact FERC Online Support at FERCOnlineSupport@ferc.gov or toll free at (866) 208-3676, or for TTY, contact (202) 502-8659.

You may also register online at http://www.ferc.gov/docs-filing/esubscription.asp to be notified via email of new filings and issuances related to this or other pending projects. For assistance, contact FERC Online Support.

All comments must be filed by Tuesday, December 29, 2015, and should reference Project No. 13563-003. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Secretary, Federal Energy Regulatory Commission, 888 First Street NE., Washington, DC 20426. The first page of any filing should include docket number P-13563-003.

Anyone may intervene in this proceeding based on this draft EIS (18 CFR 380.10). You must file your request to intervene as specified above. You do not need intervenor status to have your comments considered.

In addition to or in lieu of sending written comments, you are invited to attend public meetings that will be held to receive comments on the draft EIS. The agency meeting will focus on resource agency and non-governmental input, while the public meeting is primarily for public input. The time and locations of the meetings are as follows:

Agency Meeting

DATE: Wednesday, December 2, 2015.

TIME: 9:00 a.m.-12:00 p.m.

PLACE: Centennial Hall Convention Center, Hickel Room.

ADDRESS: 101 Egan Drive, Juneau, AK 99801.

Public Meeting

DATE: Wednesday, December 2, 2015.

TIME: 6:00 p.m.-9:00 p.m.

PLACE: Centennial Hall Convention Center, Hickel Room.

ADDRESS: 101 Egan Drive, Juneau, AK 99801.

At these meetings, resource agency personnel and other interested persons will have the opportunity to provide oral and written comments and recommendations regarding the draft EIS. The meeting will be recorded by a court reporter, and all statements (verbal and written) will become part of the Commission's public record for the project. These meetings are posted on the Commission's calendar located at http://www.ferc.gov/EventCalendar/EventsList.aspx along with other related information.

For further information, contact John Matkowski at (202) 502-8576 or at john.matkowski@ferc.gov.

Dated: October 29, 2015.
Kimberly D. Bose,
Secretary.

[FR Doc. 2015-28090 Filed 11-3-15; 8:45 am]

BILLING CODE 6717-01-P